DEPARTMENT OF HOMELAND SECURITY

Federal Emergency Management Agency

[Docket ID: FEMA-2021-0018; OMB No. 1660-NW132]

Agency Information Collection Activities: Submission for OMB Review; Comment Request; FEMA-Administered Disaster Case Management Intake Form

AGENCY: Federal Emergency Management Agency, Department of Homeland Security.

ACTION: 30-Day notice and request for comments.

SUMMARY: The Federal Emergency Management Agency (FEMA) will submit the information collection abstracted below to the Office of Management and Budget for review and clearance in accordance with the requirements of the Paperwork Reduction Act of 1995. FEMA, as part of its continuing effort to reduce paperwork and respondent burden, invites the general public to take this opportunity to comment on an extension without change of a currently approved information collection.

DATES: Comments must be submitted on or before December 17, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Rebekah Kennedy, Team Lead, Community Services Section, Individual Assistance Division, at (202) 212-1175 or rebekah.kennedy@fema.dhs.gov.

SUPPLEMENTARY INFORMATION: This proposed information collection previously published in the Federal Register on June 29, 2021 at 86 FR 34266 with a 60-day public comment period. No comments were received. The purpose of this notice is to notify the public that FEMA will submit the information collection abstracted below to the Office of Management and Budget for review and clearance.

Collection of Information

Title: FEMA-Administered Disaster Case Management Intake Form.

Type of information collection: New information collection.

OMB Number: 1660-NW132.

FEMA Forms: FF-104-FY-21-146 and FF-104-FY-21-147.

Abstract: This collection tool will primarily be used as a guide to support FEMA-administered Disaster Case Management (DCM) case managers by outlining the allowable data elements they can collect from survivors on behalf of FEMA. While there will be a paper collection tool, the case managers will primarily be using the tool as a reference of data elements they can collect, and using their own case management database systems to guide the order in which the elements are collected. The elements within the tool are used to assess, screen, and refer disaster survivors to available resources that address their specific disaster-related unmet needs. Case managers then take the information from the intake form and manually upload the data into their secured case management database.

Prior to any data collection, survivors will complete and sign a FEMA-administered DCM Consent Form, authorizing FEMA, or its agent, to collect data from the survivor in order to effectively provide case management services.

Affected Public: Individuals and Households.

Estimated Number of Respondents: 75,000.

Estimated Number of Responses: 75,000.

Estimated Total Annual Burden Hours: 48,000 burden hours.

Estimated Total Annual Respondent Cost: $1,746,240.

Estimated Respondents' Operation and Maintenance Costs: $0.

Estimated Respondents' Capital and Start-Up Costs: $0.

Estimated Total Annual Cost to the Federal Government: $51,640,374.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Acting Records Management Branch Chief, Office of the Chief Administrative Officer, Mission Support, Federal Emergency Management Agency, Department of Homeland Security.

[FR Doc. 2021-25101 Filed 11-16-21; 8:45 am]

BILLING CODE 9111-24-P